DEPARTMENT OF VETERANS AFFAIRS

38 CFR Part 3

RIN 2900-AM17

Typographical Error: Notice and Assistance Requirements; Correction

AGENCY: Department of Veterans Affairs.

ACTION: Final rule; correction.

SUMMARY: The Department of Veterans Affairs (VA) published a document in the Federal Register of April 30, 2008, revising its regulation governing VA's duty to provide a claimant with notice of the information and evidence necessary to substantiate a claim and VA's duty to assist a claimant in obtaining the evidence necessary to substantiate the claim. The document inadvertently contained a typographical error, and this document corrects that error.

DATES: Effective Date: This correction is effective May 6, 2008.

FOR FURTHER INFORMATION CONTACT: Maya Ferrandino, Consultant, Regulations Staff (211D), Compensation and Pension Service, Veterans Benefits Administration, Department of Veterans Affairs, 810 Vermont Avenue, NW., Washington, DC 20420, (727) 319-5847.

SUPPLEMENTARY INFORMATION: On April 30, 2008, VA published in the Federal Register (73 FR 23353) a document revising its regulation regarding VA's duty to provide a claimant with notice of the information and evidence necessary to substantiate a claim and VA's duty to assist a claimant in obtaining the evidence necessary to substantiate the claim. In the rule, one typographical error was inadvertently published. The reason for the typographical error is that, between the publication of the proposed rule and the publication of the final rule, VA had redesignated the relevant provision of its procedures manual from “c” to “d.” This document corrects that error.

In FR Doc. E8-9454 published on April 30, 2008 (73 FR 23353), make the following correction. On page 23355, in the second column, in the first sentence of the third full paragraph, the VA Manual M21-1MR paragraph reference is corrected by removing “I.1.B.3.c” and adding in its place “I.1.B.3.d”.

Approved: April 30, 2008.
Robert C. McFetridge,
Assistant to the Secretary for Regulation Policy and Management.

[FR Doc. E8-9966 Filed 5-5-08; 8:45 am]

BILLING CODE 8320-01-P